DEPARTMENT OF HEALTH AND HUMAN SERVICES

Administration for Community Living

Administration on Intellectual and Developmental Disabilities, President's Committee for People With Intellectual Disabilities

AGENCY: Administration for Community Living, HHS.

ACTION: Notice of rescheduled meeting due to the closure of federal offices on December 5, 2018.

SUMMARY: The President's Committee for People with Intellectual Disabilities (PCPID) will host a webinar/conference call for its members to discuss the potential topics of the Committee's 2019 Report to the President. All the PCPID meetings, in any format, are open to the public. This virtual meeting will be conducted in a discussion format.

DATES: Webinar/Conference Call: Wednesday, December 12, 2018 from 9:00 a.m. to 10:00 a.m. (EST).

FOR FURTHER INFORMATION CONTACT: For further information and accommodations needs, please contact Ms. Allison Cruz, Director, Office of Innovation, 330 C Street SW, Switzer Building, Room 1114, Washington, DC 20201. Telephone: 202-795-7334. Fax: 202-795-7334. Email: allison.cruz@acl.hhs.gov.

SUPPLEMENTARY INFORMATION: The purpose of this virtual meeting is to discuss the Committee's preparation of the 2019 Report to the President, including its content and format, and related data collection and analysis required to complete the writing of the Report. This meeting was originally scheduled for December 5 from 9:00-10:00 a.m. (EST). This meeting is rescheduled to December 12 from 9:00-10:00 a.m. (EST) due to the closure of Federal offices on December 5 and to allow for the call to occur before the end of year.

Agenda: The Committee will discuss the preparation of the PCPID 2019 Report to the President, including its content and format, and related data collection and analysis required to complete the writing of the Report.

Webinar/Conference Call: The webinar/conference call is scheduled for Wednesday, December 12, 2018, 9:00 a.m. to 10:00 a.m. (EST) and may end early if discussions are finished.

Instructions to Participate in the Webinar/Conference Call on Wednesday, December 12, 2018: Please dial: (888) 949-2790; Pass Code: 1989852.

Background Information on the Committee: The PCPID acts in an advisory capacity to the President and the Secretary of Health and Human Services on a broad range of topics relating to programs, services and support for individuals with intellectual disabilities. The PCPID executive order stipulates that the Committee shall: (1) Provide such advice concerning intellectual disabilities as the President or the Secretary of Health and Human Services may request; and (2) provide advice to the President concerning the following for people with intellectual disabilities: (A) Expanding employment opportunities; (B) connecting people to services; (C) supporting families and caregivers; (D) strengthening the networks; and (E) protecting rights and preventing abuse.

Dated: December 6, 2018.
Julie Hocker,
Commissioner, Administration on Disabilities (AoD).

[FR Doc. 2018-26857 Filed 12-11-18; 8:45 am]

BILLING CODE 4154-01-P